INTERNATIONAL TRADE COMMISSION

[Investigation No. 337-TA-995]

Certain Electrical Conductor Composite Cores and Components Thereof Notice of Commission Determination Not To Review an Initial Determination Granting Unopposed Motion To Terminate the Investigation as to Remaining Respondent; Termination of the Investigation

AGENCY: U.S. International Trade Commission.

ACTION: Notice.

SUMMARY: Notice is hereby given that the U.S. International Trade Commission has determined not to review the presiding administrative law judge's (“ALJ”) initial determination (“ID”) (Order No. 11) granting an unopposed motion to terminate the investigation as to the only remaining respondent, Shenzhen Zm Hesheng Power Development Co., Ltd. of Shenzhen, China (“Shenzhen Zm Hesheng”) based upon good cause. This terminates the investigation.

FOR FURTHER INFORMATION CONTACT: Panyin A. Hughes, Office of the General Counsel, U.S. International Trade Commission, 500 E Street SW., Washington, DC 20436, telephone 202-205-3042. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on May 16, 2016, based on a complaint filed by CTC Global Corporation, of Irvine, California (“CTC Global”). 81 FR 30340-41 (May 16, 2016). The complaint alleges violations of section 337 of the Tariff Act of 1930, as amended (19 U.S.C. 1337), in the importation into the United States, the sale for importation, and the sale within the United States after importation of certain electrical conductor composite cores and components thereof by reason of infringement of certain claims of U.S. Patent No. 7,211,319 and U.S. Patent No. 7,368,162. The notice of investigation named as respondents, Shenzhen Zm Hesheng and Mercury Cable & Energy, Inc. of San Juan Capistrano, California (“Mercury”). The Office of Unfair Import Investigations is a party to the investigation.

On September 23, 2016, the ALJ issued an ID (Order No. 9) granting an unopposed motion to terminate the investigation as to Mercury based upon consent based upon a consent order stipulation and consent order. The Commission determined not to review. Comm'n Notice of Non-Review and Issuance of Consent Order (Oct. 21, 2016).

On December 13, 2016, CTC Global filed a motion to terminate the investigation as to Shenzhen Zm Hesheng, the only remaining respondent. CTC Global stated that despite repeated attempts, it has been unable to serve the complaint on Shenzhen Zm Hesheng and that Shenzhen Zm Hesheng has not filed an answer or made any appearance in this investigation. On December 21, 2016, the Commission investigative attorney filed a response in support of the motion. No other responses to the motion were filed.

On December 28, 2016, the ALJ issued the subject ID (Order No. 11) granting the motion. The ALJ noted that Commission Rules permit terminating the investigation as to any respondent based upon good cause (19 CFR 210.21(a)(1)) and found that good cause exists to grant the motion because service was unsuccessful. ID at 2 (citing Certain Protective Cases and Components Thereof, Inv. No. 337-TA-780, Order No. 23 (Dec. 30, 2011) (finding good cause to terminate investigation as to respondents after service was unsuccessful), not rev'd by Comm'n Notice (Jan. 24, 2012). None of the parties petitioned for review of the ID.

The Commission has determined not to review the ID and to terminate the investigation.

The authority for the Commission's determination is contained in section 337 of the Tariff Act of 1930, as amended (19 U.S.C. 1337), and in Part 210 of the Commission's Rules of Practice and Procedure (19 CFR part 210).

By order of the Commission.
Issued: January 19, 2017.
Katherine M. Hiner,
Acting Supervisory Attorney.

[FR Doc. 2017-01699 Filed 1-24-17; 8:45 am]

BILLING CODE 7020-02-P